DEPARTMENT OF COMMERCE

International Trade Administration

[A-570-135]

Certain Chassis and Subassemblies Thereof From The People's Republic of China: Rescission of Antidumping Duty Administrative Review; 2024-2025

AGENCY: Enforcement and Compliance, International Trade Administration, Department of Commerce.

SUMMARY: The U.S. Department of Commerce (Commerce) is rescinding the administrative review of the antidumping duty (AD) order on certain chassis and subassemblies thereof (chassis) from the People's Republic of China (China) for the period of review (POR) July 1, 2024, through June 30, 2025.

DATES: Applicable December 11, 2025.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On July 8, 2021, Commerce published in the Federal Register the AD order on chassis from China.¹ On June 30, 2025, Commerce published in the Federal Register a notice of opportunity to request an administrative review of the Order.² On July 31, 2025, Commerce received a timely request from domestic producers of subject merchandise, the Coalition of American Chassis Manufacturers (Coalition), in accordance with 19 CFR 351.213(b)(1), to conduct an administrative review of the Order of the following exporters: (1) CIMC Vehicles (Group) Co., Ltd.; (2) Dongguan CIMC Vehicles Co., Ltd.; (3) Qingdao CIMC Special Vehicles Co., Ltd; and (4) SinoTrailers.³

¹ See Certain Chassis and Subassemblies Thereof from the People's Republic of China: Antidumping Duty Order, 86 FR 36093 (July 8, 2021) (Order).

² See Antidumping or Countervailing Duty Order, Finding, or Suspended Investigation; Opportunity to Request Administrative Review and Join Annual Inquiry Service List, 90 FR 27841 (June 30, 2025).

³ See Coalition's Letter, “Request for Administrative Review,” dated July 31, 2025.

On August 22, 2025, Commerce published in the Federal Register a notice of initiation of administrative review with respect to imports of chassis exported by the above Chinese exporters, in accordance with section 751(a) of the Tariff Act of 1930, as amended (the Act), and 19 CFR 351.221(c)(1)(i).⁴ On September 5, 2025, we placed on the record U.S. Customs and Border Protection (CBP) data for entries of chassis from China during the POR, showing no reviewable POR entries, and invited interested parties to comment.⁵

⁴ See Initiation of Antidumping and Countervailing Duty Administrative Reviews, 90 FR 41043 (August 22, 2025) (Initiation Notice).

⁵ See Memorandum, “U.S. Customs and Boarder Protection (CBP) Data Release,” dated September 5, 2025.

On September 24, 2025, Commerce notified all interested parties of its intent to rescind the instant review in full because there were no reviewable, suspended entries of subject merchandise by any of the four companies listed in the Initiation Notice during the POR and invited comments from interested parties.⁶ No interested party submitted comments to Commerce in response to this notice.

⁶ See Memorandum, “Notice of Intent to Rescind Review,” dated September 24, 2025.

Due to the lapse in appropriations and Federal Government shutdown, on November 14, 2025, Commerce tolled all deadlines in administrative proceedings by 47 days,⁷ and, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly, the deadline for the preliminary results of this review is now June 30, 2026.

⁷ See Memorandum, “Deadlines Affected by the Shutdown of the Federal Government,” dated November 14, 2025.

⁸ See Memorandum, “Tolling of all Case Deadlines,” dated November 24, 2025.

Rescission of Review

Pursuant to 19 CFR 351.213(d)(3), it is Commerce's practice to rescind an administrative review of an AD order when there are no reviewable entries of subject merchandise during the POR for which liquidation is suspended.⁹ Normally, upon completion of an administrative review, the suspended entries are liquidated at the AD assessment rate calculated for the review period.¹⁰ Therefore, for an administrative review to be conducted, there must be a reviewable, suspended entry that Commerce can instruct CBP to liquidate at the AD assessment rate calculated for the review period.¹¹ As noted above, there were no entries of subject merchandise for the four companies listed in the Initiation Notice during the POR. Accordingly, in the absence of suspended entries of subject merchandise of the four companies listed in the Initiation Notice during the POR, we are hereby rescinding this administrative review, in its entirety, in accordance with 19 CFR 351.213(d)(3).

⁹ See, e.g., Dioctyl Terephthalate from the Republic of Korea: Rescission of Antidumping Administrative Review; 2021-2022, 88 FR 24758 (April 24, 2023); see also Certain Carbon and Alloy Steel Cut-to Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

¹⁰ See 19 CFR 351.212(b)(1).

¹¹ See 19 CFR 351.213(d)(3).

Cash Deposit Requirements

As Commerce has proceeded to a final rescission of this administrative review, no cash deposit rates will change. Accordingly, the current cash deposit requirements shall remain in effect until further notice.

Assessment Rates

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: December 9, 2025.
Scot Fullerton,
Acting Deputy Assistant Secretary for Antidumping and Countervailing Duty Operations.

[FR Doc. 2025-22579 Filed 12-10-25; 8:45 am]

BILLING CODE 3510-DS-P